DEPARTMENT OF THE INTERIOR

Fish and Wildlife Service

[FWS-R2-ES-2020-N062; FXES11140200000-201-FF02ENEH00]

Application for an Incidental Take Permit; Low-Effect Habitat Conservation Plan for the Four Corners Water Development Project, Pueblo of Santa Clara, Rio Arriba County, New Mexico; Reopening of Public Comment Period

AGENCY: Fish and Wildlife Service, Interior.

ACTION: Notice of availability; reopening of public comment period.

SUMMARY: We, the U.S. Fish and Wildlife Service, are reopening the public comment period for the incidental take permit (ITP) application received from the Pueblo of Santa Clara supported by a low-effect habitat conservation plan (LEHCP).

DATES: The comment period for the ITP application and associated documents, which opened via a notice that published on March 2, 2020 (85 FR 12324), is reopened. We will accept comments received or postmarked on or before May 15, 2020.

ADDRESSES: Obtaining documents: You may obtain copies of the ITP application, the LEHCP, or other related documents on the internet at https://www.fws.gov/southwest/es/NewMexico/.

Submitting comments: You may submit written comments by email to nmesfo@fws.gov. Please note that your comment is in reference to the Pueblo of Santa Clara HCP. For more information, see Public Availability of Comments.

FOR FURTHER INFORMATION CONTACT: Seth Willey, Acting Project Leader, 505-761-4781. Individuals who are hearing or speech impaired may call the Federal Relay Service at 1-800-877-8339 for TTY assistance.

SUPPLEMENTARY INFORMATION: We, the U.S. Fish and Wildlife Service (Service), received an incidental take permit (ITP) application from the Pueblo of Santa Clara in accordance with the requirements of the Endangered Species Act, as amended (ESA; 16 U.S.C. 1531 et seq.). We announced the availability of the ITP application and associated low-effect habitat conservation plan (LEHCP) in a March 2, 2020 (85 FR 12324), Federal Register notice. For more information, see that notice.

We are reopening the public comment period on the ITP application and associated documents (see DATES and ADDRESSES). Based on comments submitted during the original public comment period, we identified an incomplete statement in the LEHCP regarding the land status of the well field. This statement has been corrected and clarified in the LEHCP on the following pages: Page i (Summary), page 2 (Section 1.1), page 4 (Section 1.5), page 9 (introduction paragraph to Section 3), page 19 (Section 4.1), and page 32 (Section I of Appendix A). No other changes were made to the document other than this clarification. If you have previously submitted comments, please do not resubmit them, we have already incorporated them in the public record and will fully consider them in our final decision.

Public Availability of Comments

All comments we receive become part of the public record associated with this action. Requests for copies of comments will be handled in accordance with the Freedom of Information Act, National Environmental Policy Act, and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We issue this notice pursuant to section 10(c) of the ESA (16 U.S.C. 1531 et seq.) and its implementing regulations in the Code of Federal Regulations (50 CFR 17.22 and 17.32), and the National Environmental Policy Act (42 U.S.C. 4321 et seq.) and its implementing regulations (40 CFR 1506.6 and 43 CFR 46.305).

Amy Lueders,
Regional Director, Southwest Region, U.S. Fish and Wildlife Service.

[FR Doc. 2020-09262 Filed 4-30-20; 8:45 am]

BILLING CODE 4333-15-P